DEPARTMENT OF DEFENSE

Office of the Secretary

Proposed Collection; Comment Request

AGENCY: Office of the Under Secretary of Defense (Personnel and Readiness), DoD.

ACTION: Notice.

In compliance with Section 3506(c)(2) of the Paperwork Reduction Act of 1995, the Office of the Under Secretary of Defense (Personnel and Readiness) announces the following proposed new public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (4) ways to minimize the burden of the information collection on respondents, including through the use of automated collection techniques or other forms of information technology.

DATES: Consideration will be given to all comments received by June 24, 2005.

ADDRESSES: Written comments and recommendations on the proposed information collection should be sent to the Office of the Under Secretary of Defense (Personnel and Readiness) (Military Community and Family Policy/Family Violence Policy), Attn: LTC James N. Jackson, 4000 Defense Pentagon, Washington, DC 20301-4000.

FOR FURTHER INFORMATION CONTACT: To request more information on this proposed information collection or to obtain a copy of the proposal and associated collection instruments, please write to the above address or call at (703) 588-0874.

Title and OMB Control Number: Understanding Domestic Violence in the Military—Rate Comparisons Between the Military and its Civilian Counterpart; OMB CONTROL NUMBER 0704-TBD.

Needs and Uses: This information collection requirement is necessary to determine the prevalence, characteristics, and consequences of domestic violence among female members of the military community (female Service members and spouses of male Service members), and compare them to those of their civilian counterparts. The behaviors of interest include physical assault, rape and/or sexual assault, and stalking attributed to current or former spouses/boyfriends. The consequences include rates of injury and use of medical services. This information is necessary to help strengthen the Department's ability to design sound domestic violence prevention and intervention programs.

Affected Public: Individuals or households; Federal Government; State, local or tribal government.

Annual Burden Hours: 3,333.

Number of Responses: 8,000.

Responses per Respondent: 1 1.

Average Burden per Response: 25 minutes.

Frequency: One-time.

SUPPLEMENTARY INFORMATION:

Summary of Information Collection

The purpose of the proposed information collection is to conduct a methodological rigorous survey to determine and compare the prevalence, characteristics, and consequences of domestic violence among female members of the military community (female Service members and spouses of male Service members) and their civilian counterparts (women 18-45 years of age). The survey will employ a questionnaire developed and fielded in 1995 for the National Violence Against Women Survey sponsored by the National Institute of Justice and the Centers for Disease Control and Prevention. It will be conducted by telephone using random digit dialing and computer assisted telephone interviewing software. Eight thousand respondents, 4,000 military (2,000 female Service members and 2,000 spouses of male Service members) and 4,000 civilian, will be required for the survey. Informed consent will be obtained at the start of each interview, which is expected to last 25 minutes on average. Respondents will be asked whether or not they have been victimized, the nature of the victimization, and the consequences of the victimization. Physical assault, rape and/or sexual assault, and stalking are among the sensitive subjects that will be examined.

Dated: April 18, 2005.
Patrical L. Toppings,
Alternate OSD Federal Register Liaison Officer, Department of Defense.

[FR Doc. 05-8147 Filed 4-22-05; 8:45 am]

BILLING CODE 5001-06-M